DEPARTMENT OF TRANSPORTATION

Federal Motor Carrier Safety Administration

[Docket No. FMCSA-2001-8672]

Agency Information Collection Activities Under OMB Review: OMB Control No. 2126-0014 (Transportation of Hazardous Materials; Highway Routing)

AGENCY: Federal Motor Carrier Safety Administration, DOT.

ACTION: Notice; request for comments.

SUMMARY: The FMCSA announces that the Information Collection Request (ICR) described in this notice is being sent to the Office of Management and Budget (OMB) for review and approval. The FMCSA is requesting OMB's continued approval of the information that is required for Transportation of Hazardous Materials; Highway Routing. The ICR describes the information collection and its expected burden. The Federal Register notice announcing a 60-day comment period on this information collection was published on March 6, 2001 (66 FR 13620). We are required to send ICRs to OMB under the Paperwork Reduction Act.

DATES: Please submit comments by July 9, 2001.

FOR FURTHER INFORMATION CONTACT: Mr. Richard Swedberg (303) 969-5772 ext. 363, or Mr. William Quade (202) 366-2172, Hazardous Materials Division (MC-ECH), Federal Motor Carrier Safety Administration, 400 Seventh Street SW., Washington, DC 20590. Office hours are from 7:30 a.m. to 4 p.m., e.t., Monday through Friday, except Federal holidays.

ADDRESSES: Send comments to the Office of Information and Regulatory Affairs, Office of Management and Budget, 725 Seventeenth Street NW., Washington, DC 20503, Attention: DOT Desk Officer. We particularly request your comments on whether the collection of information is necessary for the FMCSA to meet its goal of reducing truck crashes, including whether the information is useful to this goal; the accuracy of the estimate of the burden of the information collection; ways to enhance the quality, utility and clarity of the information collected; and ways to minimize the burden of the collection of information on respondents, including the use of automated collection techniques or other forms of information technology. OMB wants to receive comments within 30 days of publication of this notice in order to act on the ICR quickly.

SUPPLEMENTARY INFORMATION: Title: Transportation of Hazardous Materials; Highway Routing.

OMB Approval Number: 2126-0014.

Background: The data for the Transportation of Hazardous Materials; Highway Routing designations are collected under authority of 49 U.S.C. 5112 and 5125. That authority places responsibility on the Secretary of Transportation to specify and regulate standards for establishing, maintaining, and enforcing routing designations. Under 49 CFR 397.73, the Administrator has the authority to request that each state and Indian tribe, through its routing agency, provide information identifying hazardous materials (HM) routing designations within their respective jurisdictions. That information will be consolidated by the FMCSA and published annually in whole or as updates in the Federal Register.

The FMCSA published the required notice offering a 60-day comment period on the ICR on March 6, 2001 (66 FR 13620). We received two comments. The first commenter, the Institute of Makers of Explosives (IME), did not dispute the need for FMCSA to collect information they characterized as “essential.” It did, however, point out there have been errors in past publications of the information and made suggestions for improving the quality of the information and its presentation to the public. IME suggested that FMCSA should request each state to review, revise, and re-submit information. IME also requested that FMCSA be open to suggestions about other delivery mechanisms to make this information available and suggested FMCSA use the mechanism of the “Uniform Program.” IME also requested that FMCSA update the HM routing website as changes occur.

FMCSA does periodically request that each state review, revise, and re-submit information in preparation for publication of routes in the Federal Register. We also ask states to inform us when routing changes are made. FMCSA updates the HM routing website as we become aware of problems. For example, the Maryland I-95 error mentioned in IME's letter was corrected after FMCSA was made aware of the problem. FMCSA accepts suggestions about other delivery mechanisms to make this information available and will consider using the “Uniform Program,” although it is not clear how that specific mechanism would work. FMCSA invites IME to submit further elaboration of how FMCSA could use the “Uniform Program” to deliver information about HM routes.

The second commenter, the American Trucking Associations (ATA), made comments similar to those submitted by IME. ATA stated that the information being collected is essential and pointed out that publication of the information in the past has contained errors. In addition, ATA recommended that, to remedy past problems, the responsibility for the HM Routing program should be transferred to the Research and Special Programs Administration.

FMCSA recognizes that there have been errors in the routing program in the past and that notices have not been published annually in the Federal Register, as required by 49 CFR part 397. However, FMCSA is a new organization and has published a Federal Register notice every year we have been in existence. FMCSA also continually updates the list of routes by way of an Internet website, http://hazmat.fmcsa.dot.gov, and corrects errors as we are made aware of them. Because we have already addressed ATA's concerns, we believe transfer of the program to the Research and Special Programs Administration is not necessary.

Respondents: The reporting burden is shared by the 50 States, the District of Columbia, Puerto Rico, American Samoa, Guam, Northern Marianas, and the Virgin Islands; as applicable.

Estimated Total Annual Burden: The annual reporting burden is estimated to be 13 hours, calculated as follows: (53 respondents × 1 response × 15 minutes/60 minutes = 13.25 hours, rounded to 13 hours).

Frequency: There is one response annually from approximately 53 respondents.

Authority: The Paperwork Reduction Act of 1995, 44 U.S.C. Chapter 35, as amended; and 49 CFR 1.73.

Issued on: June 1, 2001.
Stephen E. Barber,
Acting Deputy Administrator.

[FR Doc. 01-14523 Filed 6-7-01; 8:45 am]

BILLING CODE 4910-EX-P